DEPARTMENT OF COMMERCE

National Oceanic and Atmospheric Administration

[I.D. 040105D]

National Marine Fisheries Service, Regional Fishery Management Council Chairs and Executive Directors Meeting; April 26-29, 2005

AGENCY: National Marine Fisheries Service (NMFS), National Oceanic and Atmospheric Administration (NOAA), Commerce.

ACTION: Notice of public meetings.

SUMMARY: The Pacific Fishery Management Council (Council) is hosting the Regional Fishery Management Council (RFMC) Chairs and Executive Directors Meeting on Tuesday, April 26, 2005 through Friday, April 29, 2005, in Dana Point, California. The purpose of the meeting is to enable NMFS, NOAA, and other officials to exchange information with and obtain views of the Council Chairs and Executive Directors (CCED).

DATES: The CCED will meet April 26-29, 2005. There will be non-public administrative sessions on Tuesday, April 26, 2005, from 8 a.m. to 5 p.m. and on Friday, April 29, 2005, from 8 a.m. to 12 p.m. The public general sessions will be held Wednesday, April 27, 2005 and Thursday, April 28, 2005, beginning each day at 8 a.m. through 5 p.m., or until business is concluded.

ADDRESSES: The meetings will be held at the Laguna Cliffs Marriott Hotel, 25135 Park Lantern, Dana Point, California 92629; telephone 800-545-7483.

Council address: Pacific Fishery Management Council, 7700 NE Ambassador Place, Suite 200, Portland, OR 97220.

FOR FURTHER INFORMATION CONTACT: Dr. Donald O. McIsaac, Executive Director; telephone: 503-820-2280.

SUPPLEMENTARY INFORMATION: The following items are on the Regional Fishery Management CCED general session agenda for April 27-28, 2005, but not necessarily in this order:

A. Congressional Staff Briefing

B. Magnuson-Stevens Fishery Conservation and Management Act Reauthorization and Associated Legislation

1. Review 2002 Administration Positions and Current Administration Perspectives

2. Review 2002 Council Chairs' Positions and Current Regional Councils' Positions

C. Budget Issues

1. RFMC Funding

2. NMFS Funding Issues

3. Schedule for Interim CCED Meeting on Budget Issues

D. Ocean Commission Report: President's U.S. Ocean Action Plan

E. Ecosystem Management Approaches

1. NOAA-Councils Work Group Report on Guidelines

2. NOAA Activities

3. Councils Fishery Ecosystem Plan Update

F. Council Member Training

G. Next CCED Meeting

Although non-emergency issues not contained in this agenda may come before this Council for discussion, those issues may not be the subject of formal Council action during this meeting. Council action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Ms. Carolyn Porter at 503-820-2280 at least five days prior to the meeting date.

Dated: April 4, 2005.
Emily Menashes,
Acting Director, Office of Sustainable Fisheries, National Marine Fisheries Service.

[FR Doc. E5-1594 Filed 4-6-05; 8:45 am]

BILLING CODE 3510-22-S